DEPARTMENT OF AGRICULTURE

Commodity Credit Corporation

Agricultural Water Enhancement Program and Cooperative Conservation Partnership Initiative

AGENCY: Commodity Credit Corporation and Natural Resources Conservation Service, Department of Agriculture.

ACTION: Notice of request for proposals.

SUMMARY: The purpose of this request for proposals is to solicit proposals from potential partners who seek to enter into partnership agreements with the Natural Resources Conservation Service (NRCS) through either the Agricultural Water Enhancement Program (AWEP) or the Cooperative Conservation Partnership Initiative (CCPI) in order to provide assistance to producers who enroll in an eligible conservation program. The Natural Resources Conservation Service (NRCS) is responsible for both AWEP and CCPI. For fiscal year (FY) 2011, applicants are strongly encouraged to use the proposal templates available for download at: http://www.nrcs.usda.gov/programs/AWEP/ for AWEP and http://www.nrcs.usda.gov/programs/CCPI/ for CCPI. To request a paper version of either proposal template, partners may send a written request to Gregory K. Johnson, Director, Financial Assistance Programs Division, Department of Agriculture, Natural Resources Conservation Service, 1400 Independence Avenue SW., Room 5239 South Building, Washington, DC 20250.

Both AWEP and CCPI were established by the Food, Conservation, and Energy Act of 2008 (2008 Act). AWEP and CCPI are voluntary conservation initiatives that enable the use of certain conservation programs, combined with resources from eligible partners who have entered into partnership agreements with NRCS, to provide financial and technical assistance to owners and operators of agricultural and nonindustrial private forest lands. Through the FY 2011 AWEP, NRCS will make Environmental Quality Incentive Program (EQIP) funds available to eligible producers in approved AWEP project areas. Through the FY 2011 CCPI, NRCS will make EQIP, Conservation Stewardship Program (CSP), and Wildlife Habitat Incentive Program (WHIP) funds available to eligible producers in approved CCPI project areas consistent with the project proposal.

CCPI opportunities concerning the Mississippi River Basin Healthy Watersheds Initiative will be announced through a separate notice.

DATES: Effective Date: The notice of request is effective December 14, 2010.

Proposals submitted for both AWEP and CCPI via e-mail or U.S. Postal Service must be received on or before January 28, 2011.

ADDRESSES: Applicants are highly encouraged to submit proposals electronically to AWEP@wdc.usda.gov for AWEP and CCPI@wdc.usda.gov for CCPI. Paper proposals should be mailed to Gregory K. Johnson, Director, Financial Assistance Programs Division, Department of Agriculture, Natural Resources Conservation Service, P.O. Box 2890, Washington, DC 20013.

Do not send submissions via registered or certified mail to the Post Office Box. Do not send the same proposal to both the e-mail and Post Office Box addresses; use only one of the two methods to submit a proposal. If submitting more than one project proposal, submit each one separately.

FOR FURTHER INFORMATION CONTACT: Gregory K. Johnson, Director, Financial Assistance Programs Division, Department of Agriculture, Natural Resources Conservation Service; 1400 Independence Avenue SW., Room 5239 South Building, Washington, DC 20250; Telephone: (202) 720-1845; Fax: (202) 720-4265; E-mail: AWEP@wdc.usda.gov for AWEP or CCPI@wdc.usda.gov for CCPI.

Persons with disabilities who require alternative means for communication (Braille, large print, audio tape, etc.) should contact the USDA TARGET Center at: (202) 720-2600 (voice and TDD).

SUPPLEMENTARY INFORMATION:

Part A—The Agricultural Water Enhancement Program

Legislative Authority

The Agricultural Water Enhancement Program (AWEP) was authorized as part of the Environmental Quality Incentives Program (EQIP), 16 U.S.C. 3839aa-9, section 2510 of the Food, Conservation, and Energy Act of 2008 (2008 Act), Public Law 110-246. The Cooperative Conservation Partnership Initiative (CCPI) was authorized by section 2707 of that same law. The Secretary of Agriculture delegated the authority for the administration of EQIP and CCPI to the Chief of the Natural Resources Conservation Service (NRCS), who is Vice President of the Commodity Credit Corporation (CCC). EQIP is funded under the authorities of the CCC and administered by NRCS.

Overview of the Agricultural Water Enhancement Program

The AWEP is a voluntary program that enables the use of EQIP, combined with resources from eligible partners who have entered into partnership agreements with NRCS, to provide financial and technical assistance to eligible producers to implement agricultural water enhancement activities on agricultural land for the purposes of conserving surface and ground water and improving water quality. By entering into partnership agreements with eligible entities, NRCS aims to conserve ground and surface water or improve water quality, or both, through a regional approach. The functions of AWEP can best be described in two parts: AWEP partnerships and AWEP program participation.

AWEP Partnerships

Under AWEP, eligible potential partners may submit proposals addressing the criteria that are outlined in this request for proposals. Partners who may enter into partnership agreements with NRCS include federally recognized Indian tribes, State and local units of government, agricultural or silvicultural associations, and other groups of producers such as an irrigation association, agricultural land trust, or other nongovernmental organization that has experience working with agricultural producers. Individual agricultural producers are not an eligible partner entity and may not submit AWEP proposals.

Submitted proposals will be evaluated through a competitive review process. NRCS will use the proposal ranking score, along with other review commentary, to select proposals for funding. After selection, the partners will enter into a partnership agreement with NRCS. The partnership agreement will not obligate funds, but will address:

1. The role of the partner;

2. The role of NRCS;

3. Agricultural water enhancement activities anticipated to be addressed and conservation practices to be implemented;

4. The responsibilities of the partner related to the monitoring as identified in the proposal and evaluation of project performance;

5. The frequency and duration of the monitoring and evaluation of project performance;

6. The content and format of the final project performance report that is required as a condition of the agreement;

7. The budget, including other funding sources (if applicable), for financial and technical assistance;

8. The specified project schedule; and

9. Other requirements deemed necessary by NRCS to achieve the purposes of AWEP.

AWEP is not a grant program, and all Federal funding offered through this authority will be paid directly to agricultural producers through individual contract agreements.

AWEP Program Participation

Once NRCS approves and announces the selected partner projects, eligible agricultural producers located within the approved project areas may apply directly to NRCS for funding through EQIP. The AWEP program uses the funds, policies, and process of EQIP to deliver assistance to eligible producers to implement approved conservation practices. Producers interested in applying must meet the eligibility requirements of EQIP. Individual applications from eligible producers will be evaluated and ranked to ensure that producer applications selected for funding are most likely to achieve project objectives. Once applications are selected, the producers may enter into a contract with NRCS.

Availability of Funding

Effective upon publication of this notice, NRCS announces the availability of up to $5 million in AWEP financial assistance during fiscal year (FY) 2011.

Proposal Information

Proposal Format

It is highly recommended that the proposal be written using the proposal template format, including budget and schedule templates, to ensure that all required components are addressed. Consult the NRCS national AWEP Web site for an example of an acceptable AWEP proposal document at: http://www.nrcs.usda.gov/programs/AWEP/. Do not submit other documents not requested or letters of endorsement.

Required Information

The proposal must include the following:

1. Proposal Cover Sheet and Summary:

a. Project Title.

b. Project director/manager name, telephone number, and mailing and e-mail addresses.

c. Name of lead partner entity submitting proposal and other collaborating partners.

d. Short summary of project including:

i. Project start and end dates (not to exceed a period of 5 years);

ii. Project objectives and resource concerns to be addressed, and specifically what water conservation resource issues and water quality resource issues the project will address; and

iii. Location of project, specifying if the location is within an AWEP national priority area (Eastern Snake Plains Aquifer, Everglades, Ogallala Aquifer, Puget Sound, Red River, Sacramento River Basin, and Upper Mississippi River Basin).

Note: Additional information, maps, and a list of States and counties located in AWEP priority areas are available at: http://www.nrcs.usda.gov/programs/awep/.

e. Amount of AWEP financial assistance being requested.

2. Partner Background and Experience:

a. Demonstrate:

i. The commitment and experience of the partner to accomplish the long-term conservation of surface and ground water or water quality improvement and related historical activities that show this experience;

ii. The ability and history of the partner to coordinate water quality and quantity efforts among agricultural producers;

iii. The ability to monitor and evaluate project effects on natural resources; and

iv. That the partner has the capacity to deliver a final project performance report.

b. A description of how the partners and entities will collaborate to achieve the project objectives. Include:

i. The roles, responsibilities, and capabilities of the partner(s); and

ii. The financial and technical commitments of each of the partners and how they will be leveraged by EQIP assistance. If partners who do not submit this proposal intend to commit resources, a letter or other documentation from these partners confirming a commitment of resources is required. Partners need to clearly state, by project objective, how they intend to leverage Federal funds along with partner resources to address water quantity or water quality resource issues. The funding and time contribution by agricultural producers to implement agreed-to conservation practices in program contracts may not be considered any part of a match from the potential partner for purposes of AWEP.

3. Project Objectives and Natural Resource Concerns:

a. Identify and provide details about the project objectives. Objectives should be specific, measurable, achievable, and results-oriented.

b. For each objective, identify the actions to be completed to achieve the objective and address the identified natural resource concern using AWEP assistance or the actions being addressed using alternate non-Federal resources or fund sources.

c. Identify the total number of acres that need conservation treatment along with the kinds of conservation practices and activities needed to treat priority resource concerns in the project area. Identify specific priorities within the project area that need to be addressed first.

d. A description of the agricultural water quality or water conservation issues to be addressed by the partnership agreement. Provide information about the extent and kinds of water quality issues to be addressed such as pollutants, designated priority areas, groundwater overdraft, and surface water deficiencies.

e. The proposed agricultural water enhancement activities that may be implemented through partner efforts alone and those to be implemented using AWEP financial support.

4. Project Description:

a. Attach a map to the application showing the proposed project area. Describe the location and size of the proposed project area. Identify whether the project is located in a water conservation priority area.

b. A list and description of the NRCS practices and partner-sponsored activities expected to be implemented to address the identified agricultural water enhancement objectives of the project. The description could include activities such as types of water conservation plans, assessments, or modeling; specific efforts to encourage producers to convert irrigated land to less water-intensive operations or dryland farming; the percentage of the project area expected to be converted to dryland farming; and types of irrigation system improvements.

i. Describe the general sequence of implementation of the project.

ii. For each conservation practice, estimate the extent (feet, acres, number, etc.) the partner expects producers to implement each fiscal year during the life of the project and the amount of financial assistance requested to support implementation of each practice through producer contracts.

iii. From the estimated amount of financial assistance needed to implement the identified conservation practices, include the total amount of financial assistance funds requested for each fiscal year of the project to be made available for producer contracts.

iv. Describe whether the project will address regulatory compliance and any other outcomes the partner expects to complete during the project period.

Note: Information about NRCS practices is found in the Field Office Technical Guide found at: http://www.nrcs.usda.gov/technical/efotg/ and descriptions of practices at: http://www.nrcs.usda.gov/technical/standards/.

c. Include the total acres that need conservation treatment and the priority conservation practices and activities that are needed to treat significant resource concerns in the project area. Identify specific priorities within the project area that need to be addressed first.

d. Identify potential criteria to be used by NRCS to prioritize and rank agricultural producers' AWEP applications in the project area. Proposals may include specific ranking criteria so that NRCS can evaluate applications based upon the environmental objectives of the AWEP project. Additional guidance and examples may be obtained from the NRCS State office where the project will be located.

e. A description of the resources (financial or technical assistance) requested annually from AWEP for producer contracts and the non-Federal resources provided by the partner that will be leveraged by the Federal contribution. If resources other than funding are being offered by the partner, describe the kind of resources and services that will be made available to producers to help implement conservation practices and activities. The funding and time contribution by agricultural producers to implement agreed-to conservation practices in the program contracts may not be considered as part of a match from the potential partner. All funding requests and information regarding partner resources may be included in the form of a budget narrative.

5. Participant Information:

a. An estimate of the number of eligible agricultural producers the partner expects to participate in the project compared with the estimated total number of producers in the project area. Include additional information such as:

i. How will the partner encourage participation to guarantee success of the project?

ii. Does the project include any tribal, socially disadvantaged, beginning, or limited resource farmers or ranchers?

iii. Are there groups of producers who may submit joint program applications to address resource issues of common interest and need?

6. Proposal Implementation Plan and Schedule:

a. Potential partners should submit project action plans and schedules, not to exceed 5 years, detailing activities, including timeframes related to project milestones and monitoring and evaluation activities that will likely be documented in the partnership agreement. A project action plan should describe how often the potential partner plans to monitor and evaluate the project, how it plans to quantify the results or performance of the project for the final project performance report, and the practices the partner expects to be implemented during the project timeframe and general sequence of project implementation.

Evaluation Criteria

The agency will evaluate the proposals using a competitive process. A higher priority may be given to proposals that:

1. Include high percentages of agricultural land and producers in a region or other appropriate area;

2. Result in high levels of applied agricultural water quality and water conservation activities;

3. Significantly enhance agricultural activity;

4. Allow for monitoring and evaluation by the partner;

5. Assist agricultural producers in meeting a regulatory requirement that reduces the economic scope of the producer's operation;

6. Achieve the project's land and water treatment objectives within 5 years or less;

7. Are from States with water quantity concerns where the proposal will:

a. Include conservation practices that support the conversion of agricultural land from irrigated farming to dryland farming;

b. Leverage Federal funds provided under the program with funds provided by partners;

c. Assist producers in States with high priority water quantity concerns, as determined by the agency. The high priority areas are located in the following regions: Eastern Snake Plain Aquifer, Everglades, Ogallala Aquifer, Puget Sound, Red River, Sacramento River Basin, and Upper Mississippi River Basin.

d. Include other factors and criteria as approved by the agency which help identify those proposals which best achieve the purposes of AWEP.

Part B—The Cooperative Conservation Partnership Initiative

Legislative Authority

The Cooperative Conservation Partnership Initiative (CCPI) was authorized by section 2707 of the Food, Conservation, and Energy Act of 2008 (2008 Act). The CCPI was established by amending section 1243 of the Food Security Act of 1985 [16 U.S.C. 3843]. The Secretary of Agriculture has delegated the authority to administer CCPI to the Chief of the Natural Resources Conservation Service (NRCS), who is Vice President of the Commodity Credit Corporation (CCC).

Overview of the Cooperative Conservation Partnership Initiative

The CCPI is a voluntary conservation initiative that enables the use of certain conservation programs, combined with resources from eligible partners, to provide financial and technical assistance to owners and operators of agricultural and nonindustrial private forest lands in order to enhance conservation outcomes and achieve resource conservation objectives. The functions of CCPI can best be described in two parts: CCPI partnerships and CCPI program participation.

CCPI Partnerships

Under CCPI, eligible potential partners may submit proposals addressing the criteria that are outlined in this request for proposals. Partners who may enter into partnership agreements with NRCS include federally recognized Indian tribes, State and local units of government, producer associations, farmer cooperatives, institutions of higher education, and nongovernmental organizations with a history of working cooperatively with producers to effectively address conservation priorities related to agricultural production and nonindustrial private forest land. Individual agricultural producers are not an eligible partner entity and may not submit CCPI proposals.

Submitted proposals will be evaluated in a competitive review process. NRCS will use the proposal ranking score along with other review commentary to select proposals for funding. After selection, the partners will enter into a partnership agreement with NRCS. The partnership agreement will not obligate funds, but will address:

1. The role of the partner;

2. The role of NRCS;

3. The responsibilities of the partner as it relates to the monitoring and evaluation;

4. The frequency and duration of monitoring and evaluation to be completed by the partner;

5. The format and frequency of reports (semi-annual, annual, and final) required as a condition of the partnership agreement;

6. Budget which includes other funding sources (if applicable) for financial and technical assistance;

7. The specified project schedule and timeframe; and

8. Other requirements deemed necessary by NRCS to further the purposes of the CCPI project.

Where flexibility is needed to meet project objectives, the partner may request that program adjustments be allowed, provided such policy adjustments are within the scope of the applicable programs' statutory and regulatory program authorities. An example of a program adjustment may be to expedite the applicable program ranking process in a situation where a partner has identified the producers approved to participate in the project. Another example of a program adjustment may include using a single area-wide plan of operations rather than individual plan of operations. An example of program authority that cannot be waived under the provision of CCPI flexibility includes program payment limits, maximum practice payment percentages, and participant eligibility requirements. Questions regarding proposed requests for CCPI flexibility may be directed to CCPI@wdc.usda.gov.

CCPI is not a grant program, and all Federal funds made available through this request for proposals will be paid directly to producers through program contract agreements. No technical assistance funding may be provided to a partner through the CCPI partner agreement. However, if requested by a partner, the State Conservationist may consider development of a separate contribution agreement with a qualified partner to provide funding for delivery of technical services to producers participating in an approved CCPI project.

CCPI Program Participation

Once the agency approves and announces the selected partner projects, eligible agricultural producers located within the approved project areas may apply directly to NRCS for funding through one or more of the following programs: Environmental Quality Incentives Program (EQIP), Conservation Stewardship Program (CSP), or Wildlife Habitat Incentive Program (WHIP). CCPI uses the funds, policies, and processes of these programs to deliver assistance to eligible producers to implement approved conservation practices, enhancements, and activities. Producers interested in applying must meet the eligibility requirements of the program for which they are applying. Individual applications from eligible producers will be evaluated and ranked to ensure that producer applications selected for funding are most likely to achieve project objectives. Once applications are selected, producers may enter into a contract or cost-share agreement with NRCS.

Participants may enter into multiple program contracts through CCPI if more than one program is needed to accomplish the project objectives.

During fiscal year (FY) 2011, an objective of CCPI is to deliver EQIP, CSP, and WHIP assistance to producers to achieve high-priority conservation objectives in geographic areas defined by the partner. Depending upon the program available in the project area, the assistance provided enables eligible producers to implement conservation practices and enhancements, including the development and adoption of innovative conservation practices and management approaches.

Availability of Funding

Effective on the publication date of this notice, NRCS announces the availability of up to $16 million in EQIP and $1.8 million in WHIP financial assistance; and 229 thousand acres in CSP for CCPI during FY 2011 for competition.

Proposal Information

Proposal Format

It is highly recommended that the proposal be written using the proposal template format, including budget and schedule templates, to ensure that all required components are addressed. Consult the NRCS national CCPI Web site for an example of an acceptable CCPI proposal document at: http://www.nrcs.usda.gov/programs/CCPI/. Do not submit other documents not requested or letters of endorsement.

Required Information

The proposal must include the following:

1. Proposal Cover Sheet and Summary:

a. Project Title.

b. Project director/manager name, telephone number, and mailing and e-mail addresses.

c. Name and contact information for lead partner entity submitting proposal and other collaborating partners.

d. Short summary of project including:

i. Project start and end dates (not to exceed a period of 5 years);

ii. Location of project;

iii. Project objectives and resource concerns to be addressed; and

iv. Amount of CCPI financial assistance being requested by program.

2. Partner Background and Experience:

a. A description of the partner or partners' history of working with agricultural producers to address conservation priorities.

b. A description of how the partner(s) will collaborate to achieve the objectives of the agreement. Include:

i. The roles, responsibilities, and capabilities of the partner(s); and

ii. The financial or technical commitments of each of the partners and how they will be leveraged by the Federal contribution through EQIP, WHIP, or CSP. If partners who do not submit this proposal intend to commit resources, a letter or other documentation from these partners confirming a commitment of resources is required. Partners need to clearly state, by project objective, how they intend to leverage Federal funds along with partner resources. The funding and time contribution by agricultural producers to implement agreed-to conservation practices in program contracts may not be considered any part of a match from the potential partner for purposes of CCPI.

3. Project Objectives and Natural Resource Concerns:

a. Identify and provide detail about the project objectives. Objectives should be specific, measureable, achievable, and results-oriented.

i. Identify and provide details about the natural resource concern(s) to be addressed in this project. Include in this description how the proposal objectives will address the listed resource concerns.

Note: A complete list of NRCS approved natural resource concerns may be found on the CCPI Web site at: http://www.nrcs.usda.gov/programs/ccpi/.

4. Project Description:

a. A detailed description of the geographic area covered by the proposal including:

i. Types of lands to be treated; and

ii. The location and size of the proposed project area.

b. A detailed map showing the project area. Include on the map:

i. Outlined areas which need conservation treatments;

ii. What conservation treatments are needed in what areas; and

iii. The order of priority for the different areas to be treated.

c. A description of the project timeline. Include:

i. Duration of the project, not to exceed 5 years in length;

ii. Project implementation schedule that details when different objectives and conservation practices will be completed;

iii. When partner and Federal resources will be used within the timeframe of the project. Include the total amount of financial assistance funds requested for each fiscal year of the project to be made available for producer contracts and cost-share agreements (for multi-State projects, provide the funds or acres by State as appropriate). The proposal must request NRCS program funds for obligation in producer contracts during FY 2011 (October 1, 2010 to September 30, 2011). Proposals which request funding starting after FY 2011 (September 30, 2011) will not be evaluated or considered during this funding cycle; and

iv. When the final project report will be submitted.

d. A description of the plan for monitoring, evaluating, and reporting on progress made toward achieving the objectives of the agreement.

e. Identify potential criteria to be used by NRCS to prioritize and rank agricultural producers' applications for EQIP, CSP, and WHIP in the project area. Potential partners should collaborate with NRCS to develop meaningful criteria that NRCS can use to evaluate and rank producers' program applications. This will ensure that applications which will best accomplish the project's objectives will be selected.

f. An estimate of the percentage of producers, including nonindustrial private forest landowners, in the project area that may participate in the project along with an estimate of the total number of producers located in the project area. Provide details such as how the partner will encourage producer participation; whether the project includes any tribal producers, beginning farmers or ranchers, socially disadvantaged farmers or ranchers, or limited resource farmers or ranchers; and whether there are groups of producers who may submit joint applications to address resource issues of common interest and need.

g. A listing and description of the conservation practices, conservation activity plans, enhancements, and partner activities to be implemented during the project timeframe and the general sequence of implementation of the project. Also address technical assistance efforts that will be made by the partner. Describe any activities that are innovative or include outcome-based performance measures implemented by the partner. Information about approved NRCS practices is found in the Field Office Technical Guide at: http://www.nrcs.usda.gov/technical/efotg/. Information on eligible enhancements can be found at the CSP Web site at: http://www.nrcs.usda.gov/programs/new_csp/csp.html. For each conservation practice, estimate the amount of practice extent (feet, acres, number, etc.) the partner expects producers to implement and the amount of financial assistance requested to support implementation of each practice through producer contracts.

h. Indicate whether the project will address regulatory compliance and any other outcomes the partner expects to complete during the project period.

i. A detailed description of any requested policy adjustments, by program, with an explanation of why the adjustment is needed in order to achieve the objectives of the project.

j. A description of how the partner will provide for outreach to beginning farmers or ranchers, limited resource farmers or ranchers, socially disadvantaged farmers or ranchers, and Indian tribes.

k. A description of how the proposal's objectives may provide additional benefits to address renewable energy production, energy conservation, mitigating the effects of climate change, facilitating climate change adaptation, or fostering carbon sequestration, if applicable.

Evaluation Criteria

The agency will evaluate proposals using a national competitive process. A higher priority may be given to proposals that:

1. Have a high percentage of producers actively farming or managing working agricultural or nonindustrial private forest lands included in the proposed project area;

2. Significantly leverage non-Federal financial and technical resources and coordinate with other local, State, or Federal efforts;

3. Deliver high percentages of applied conservation practices to address water quality, water conservation, or State, regional, or national conservation initiatives;

4. Provide innovation in approved conservation practices, conservation methods, and delivery including outcome-based performance measures and methods;

5. Complete the application of the conservation practices and activities on all of the covered program contracts or cost-share agreements in 5 years or less;

6. Assist the participants in meeting local, State, and Federal regulatory requirements;

7. Provide for monitoring and evaluation of conservation practices, enhancements, and activities;

8. Provide for matching financial funds or technical assistance to assist participants with the implementation of their EQIP and CSP contracts and WHIP cost-share agreements;

9. Further the Nation's efforts with renewable energy production, energy conservation, mitigating the effects of climate change, facilitating climate change adaptation, or fostering carbon sequestration;

10. Provide for outreach to, and participation of, beginning farmers or ranchers, socially disadvantaged farmers or ranchers, limited resource farmers or ranchers, and Indian tribes within the proposed project area; and

11. Identify other factors and criteria which best achieve the purposes of CCPI.

Part C—General AWEP and CCPI Proposal Information

State Conservationist Letter of Review

Once a project proposal is received, the agency will provide a copy to the appropriate State Conservationist(s) for evaluation and ranking. If the project is multi-State in scope, the proposal will be evaluated at the national level, and the State Conservationist(s) will submit a letter of review to address:

1. Potential duplication of efforts with other projects or existing programs;

2. Adherence to, and consistency with, program regulation including requirements related to land and producer eligibility and use of approved NRCS resource concerns and conservation practices, enhancements, and other program requirements;

3. Expected benefits for project implementation in their State(s);

4. Other issues or concerns the State Conservationist is aware of that should be considered by the agency; and

5. A general recommendation for support or denial of project approval.

Proposal Submission, Review, and Notification

Potential partners are highly encouraged to submit proposals, using the approved proposal template, to the e-mail address or Post Office Box provided in the “ADDRESSES” section of this notice. The proposal must address, in sufficient detail, all the criteria outlined in the “Proposal Information” section of this notice to allow agency reviewers to understand the partner's priority resource concerns, objectives, and expected outcomes.

State Conservationists are expected to provide, once requested, guidance to potential partners regarding resource concerns that may be addressed in the proposed project area, local working group and State Technical Committee natural resource priorities, approved conservation practices and activities, and other program requirements the partner should consider when developing a proposal. NRCS may not assist in writing or submission of any proposal.

AWEP and CCPI proposals submitted to NRCS become the property of the agency for use in the administration of the program, may be filed or disposed of by the agency, and will not be returned to the potential partner. Once proposals have been submitted for review and ranking, there will be no further opportunity to change or re-submit the proposal. Incomplete proposals or those that do not meet the requirements set forth in this notice will not be considered, and notification of elimination will be mailed to the applicant. Partner proposals may be withdrawn by written notice to the Director, Financial Assistance Programs Division at any time prior to selection (see “ADDRESSES” section in this notice).

NRCS will review and evaluate the proposals based on the criteria set forth in the respective “Proposal Information” sections of this notice for both AWEP and CCPI. Positive consideration will be given to proposals that thoroughly address the issues outlined in the respective “Evaluation Criteria” sections of this notice for AWEP and CCPI.

Partners whose proposals have been selected will receive a letter of official notification. Upon notification of selection, the partner should contact the appropriate State Conservationist to develop the required partnership agreement and other project implementation requirements. Potential partners should note that, depending upon available funding and agency priorities, NRCS may offer a reduced amount of program financial assistance from what was requested in the proposal. Partner submissions of proposals that were not selected will also be notified.

Waiver Authority

To assist in the implementation of AWEP projects, the NRCS Chief may waive the applicability of the Adjusted Gross Income Limitation in producer program contracts, on a case-by-case basis in accordance with 7 CFR 1400.500(d)(2). Such waiver requests must be submitted in writing from the program applicant, addressed to the Chief, and submitted through the local designated conservationist.

Signed this 7th day of December, 2010, in Washington, DC.
Dave White,
Vice President, Commodity Credit Corporation and Chief, Natural Resources Conservation Service.

[FR Doc. 2010-31279 Filed 12-13-10; 8:45 am]

BILLING CODE 3410-16-P